DEPARTMENT OF COMMERCE

United States Patent and Trademark Office

Submission for OMB Review; Comment Request

AGENCY: United States Patent and Trademark Office (USPTO).

The United States Patent and Trademark Office (USPTO) has submitted to the Office of Management and Budget (OMB) for clearance the following proposal for collection of information under the provisions of the Paperwork Reduction Act (44 U.S.C. Chapter 35).

Title: Initial Patent Application (Elimination of Continued Prosecution Application Practice as to Utility and Plant Patent Applications).

Form Numbers: PTO/SB/01/01A/02A/02B/02C/03/03A/04/05/06/07/13PCT/17/18/19/29/29A/101/102/103/104/105/106/107/108/109/110.

Agency Approval Number: 0651-0032.

Type of Request: Revision of a currently approved collection.

Burden: 2,984,360 hours per year.

Number of Respondents: 319,350 responses per year.

Avg. Hours Per Response: The USPTO estimates that it takes an average of 24 minutes to gather, prepare, and submit a Continued Prosecution Application. This is in contrast to the 12 minutes that the USPTO estimates that it takes the public to gather, prepare, and submit a Request for Continued Examination. If the proposed rule to eliminate the Continued Prosecution Application in favor of the Request for Continued Examination for utility and plant applications is approved, fewer Continued Prosecution Applications will be submitted per year. The USPTO estimates that the elimination of the Continued Prosecution Applications in the case of utility and plant applications will decrease the burden associated with the continued examination of applications by 5,900 hours.

Needs and Uses: This collection of information is required by 35 U.S.C. 131 and 37 CFR 1.16 through 1.84. An applicant must provide sufficient information to allow the USPTO to properly examine the application to determine whether it meets the requirements outlined in the patent statutes and regulations. The American Inventors Protection Act of 1999 amended 35 U.S.C. 132 to provide that the USPTO may prescribe regulations for the continued examination of applications (for a fee) at the request of the applicant. As a result of the American Inventors Protection Act of 1999, the USPTO implemented a new practice called a Request for Continued Examination as an alternative to the existing Continued Prosecution Application practice. Applicants can request the continued examination of a previously submitted utility or plant application, instead of submitting a Continued Prosecution Application. The USPTO is proposing to eliminate the use of Continued Prosecution Applications in the case of utility and plant applications. Applicants will continue to use Continued Prosecution Applications to request additional examination of a previously submitted design application. The USPTO will continue to use the Continued Prosecution Applications to process and initiate the additional examination of a previously submitted design application.

Affected Public: Individuals or households, businesses or other for-profit, not-for-profit institutions, farms, Federal government, and state, local or tribal government.

Frequency: On occasion.

Respondent's Obligation: Required to obtain or retain benefits.

OMB Desk Officer: David Rostker, (202) 395-3897.

Copies of the above information collection proposal can be obtained by calling or writing Susan K. Brown, Records Officer, Data Administration Division, Office of Data Management, United States Patent and Trademark Office, Crystal Park 3, 3rd Floor, Suite 310, Washington, D.C. 20231, by phone at (703) 308-7400, or via the Internet at susan.brown@uspto.gov.

Written comments and recommendations for the proposed information collection should be sent within 30 days of publication to David Rostker, OMB Desk Officer, Room 10236, New Executive Office Building, 725 17th Street, N.W., Washington, D.C. 20503.

Dated: June 8, 2001.
Susan K. Brown,
Records Officer, Data Administration Division, Office of Data Management.

[FR Doc. 01-15094 Filed 6-14-01; 8:45 am]

BILLING CODE 3510-16-P